NATIONAL SCIENCE FOUNDATION

Advisory Committee for Education and Human Resources; Notice of Meeting

In accordance with the Federal Advisory Committee Act (Pub. L. 92-463, as amended), the National Science Foundation announces the following meeting:

Name: Advisory Committee for Education and Human Resources (#1119).

Date: February 26-28, 2001.

Place: National Science Foundation, 4201 Wilson Boulevard, Arlington, VA.

Type of Meeting: PART-OPEN.

Contact Person: Lura Chase, Kathleen Bergin, Julio Lopez-Ferrao, National Science Foundation, 4201 Wilson Boulevard, Arlington, VA 22230. Telephone: (703) 292-8690.

Purpose of Meeting: To carry out Committee of Visitors review, including examination of decisions on proposals, reviewer comments, and other privileged materials.

Agenda

February 26, 2001; 5 p.m.-7 p.m. (Closed): Introductions and Instructions.

February 27, 2001; 8 a.m.-6 p.m. (Closed): In-depth program review.

February 28, 2001; 8-10 p.m. and 12 p.m.-3 p.m. (Closed): In-depth program review and preparation of final report.

February 28, 2001; 10 a.m.-12 p.m. (Open): Discussion of findings and draft report.

Reason for Closing: The proposals being reviewed include information of a proprietary or confidential nature, including technical information; financial data, such as salaries and personal information concerning individuals associated with the proposals. These matters are exempt under 5 U.S.C. 552b(c), (4) and (6) of the Government in the Sunshine Act.

Dated: January 25, 2001.
Karen J. York,
Committee Management Officer.

[FR Doc. 01-2614 Filed 1-30-01; 8:45 am]

BILLING CODE 7555-01-M